Proclamation 8535 of June 11, 2010

Flag Day and National Flag Week, 2010

By the President of the United States of America

A Proclamation

When the Second Continental Congress adopted the American flag on June 14, 1777, the thirteen stripes alternating red and white, and thirteen white stars in a blue field, represented “a new constellation.” On Flag Day, and throughout National Flag Week, we celebrate its lasting luminosity, and the enduring American story that it represents.

Although the configuration of stars and stripes has changed over the years it has been flown, its significance and symbolism have not wavered. The flag that once helped unite a new Nation to confront tyranny and oppression still flies today as an unequivocal emblem of freedom and liberty. The same flag that has been raised on beaches and battlefields still adorns the uniforms of our heroic sons and daughters serving in America’s Armed Forces, including our troops serving in harm’s way in Iraq and Afghanistan.

This past year, that same flag has continued to soar. When our American Olympic and Paralympics athletes were positioned triumphantly on the podiums of the Vancouver 2010 Olympic and Paralympic Winter Games, our majestic flag flew high above them. From homes to classrooms, civic gatherings to private memorials, we gathered to salute our flag, and in doing so, renewed the eternal promise of this glorious Nation.

More than 220 years after Old Glory was first embraced by our Founders, the Stars and Stripes remain the symbol of our Nation’s pride. On Flag Day and during National Flag Week we recognize the American flag as a symbol of hope and inspiration to people at home and around the world—as a constellation which grows brighter with every achievement earned and sacrifice borne by one of our citizens.

To commemorate the adoption of our flag, the Congress, by joint resolution approved August 3, 1949, as amended (63 Stat. 492), designated June 14 of each year as “Flag Day” and requested that the President issue an annual proclamation calling for its observance and for the display of the flag of the United States on all Federal Government buildings. The Congress also requested, by joint resolution approved June 9, 1966, as amended (80 Stat. 194), that the President annually issue a proclamation designating the week in which June 14 occurs as “National Flag Week” and call upon citizens of the United States to display the flag during that week.

NOW, THEREFORE, I, BARACK OBAMA, President of the United States of America, do hereby proclaim June 14, 2010, as Flag Day and the week beginning June 13, 2010, as National Flag Week. I direct the appropriate officials to display the flag on all Federal Government buildings during that week, and I urge all Americans to observe Flag Day and National Flag Week by displaying the flag. I also call upon the people of the United States to observe with pride and all due ceremony those days from Flag Day through Independence Day, also set aside by the Congress (89 Stat. 211), as a time to honor America, to celebrate our heritage in public gatherings and activities, and to publicly recite the Pledge of Allegiance to the Flag of the United States of America.

IN WITNESS WHEREOF, I have hereunto set my hand this eleventh day of June, in the year of our Lord two thousand ten, and of the Independence of the United States of America the two hundred and thirty-fourth.

[FR Doc. 2010-14726

Filed 6-15-10; 11:15 am]

Billing code 3195-W0-P